NUCLEAR REGULATORY COMMISSION

[Docket No. 50-305; NRC-2013-0056]

Environmental Assessment and Finding of No Significant Impact; Final Issuance: Dominion Energy Kewaunee; Kewaunee Power Station

AGENCY: Nuclear Regulatory Commission.

ACTION: Environmental assessment and finding of no significant impact; final issuance.

SUMMARY: The U.S. Nuclear Regulatory Commission (NRC) is considering issuance of exemptions in response to an April 4, 2013, request from Dominion Energy Kewaunee (DEK, the licensee). One exemption would permit the licensee to use a portion of the funds from the Kewaunee Power Station (KPS) decommissioning trust fund (Trust) for irradiated fuel management activities. Another exemption would allow the licensee to make the withdrawals from the Trust for irradiated fuel management activities without prior notification to the NRC. The NRC staff is issuing an Environmental Assessment and Finding of No Significant Impact associated with the proposed exemptions.

ADDRESSES: Please refer to Docket ID NRC-2013-0056 when contacting the NRC about the availability of information regarding this document. You may access publicly-available information related to this document using any of the following methods:

• Federal rulemaking Web site: Go to http://www.regulations.gov and search for Docket ID NRC-2013-0056. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search”. For problems with ADAMS, please contact the NRC's Public Document Room (PDR) reference staff at 1-800-397-4209, 301-415-4737, or by email to pdr.resource@nrc.gov. The ADAMS accession number for each document referenced in this notice (if that document is available in ADAMS) is provided the first time that a document is referenced. The request for exemption, dated April 4, 2013, is available electronically under ADAMS Accession No. ML13098A031. The supplement, dated November 6, 2013, is available at ADAMS Accession No. ML13312A916.

• NRC's PDR: You may examine and purchase copies of public documents at the NRC's PDR, Room O1-F21, One White Flint North, 11555 Rockville Pike, Rockville, Maryland 20852.

FOR FURTHER INFORMATION CONTACT: William Huffman, Office of Nuclear Reactor Regulation, 301-415-2046; William.Huffman@nrc.gov; U.S. Nuclear Regulatory Commission, Washington, DC 20555-0001.

SUPPLEMENTARY INFORMATION:

I. Introduction

The NRC is considering issuance of exemptions from Part 50, Section 82(a)(8)(i)(A) and 10 CFR Part 50 Section 75(h)(1)(iv) of Title 10 of the Code of Federal Regulations (10 CFR) for Renewed Facility Operating License No. DPR-43, issued to Dominion Energy Kewaunee (DEK, the licensee), for the Kewaunee Power Station located in Kewaunee County, Wisconsin. The licensee requested the exemptions by letter dated April 4, 2013, and supplemented its request by letter dated November 6, 2013. The exemptions would allow the licensee to use a portion of the funds from the KPS Trust for irradiated fuel management activities without prior notification to the NRC. Consistent with 10 CFR 51.21, the NRC has reviewed the requirements in 10 CFR 51.20(b) and 10 CFR 51.22(c) and determined that an environmental assessment is the appropriate form of environmental review. Based on the results of the environmental assessment, which is provided in Section II below, the NRC is issuing this final finding of no significant impact.

II. Environmental Assessment

Identification of the Proposed Action

The proposed action would exempt DEK from meeting the requirements set forth in 10 CFR 50.82(a)(8)(i)(A) and 10 CFR 50.75(h)(1)(iv). The proposed action would allow DEK to use a portion of the funds from the Trust for irradiated fuel management without prior notification to the NRC.

The proposed action is in accordance with the licensee's application dated April 4, 2013, as supplemented by letter dated November 6, 2013.

The Need for the Proposed Action

By letter dated February 25, 2013, DEK informed the NRC of its intention to permanently cease operation of KPS on May 7, 2013 (ADAMS Accession No. ML13058A065). By separate letters dated February 26, 2013, DEK submitted an update to the KPS Irradiated Fuel Management Plan, as required by 10 CFR 50.54(bb), and a Post-Shutdown Decommissioning Activities Report (PSDAR), as required by 10 CFR 50.82(a)(4)(i) (ADAMS Accession Nos. ML13059A028 and ML13063A248, respectively). On May 7, 2013, DEK permanently ceased power operations at KPS. On May 14, 2013, DEK certified that it had permanently defueled the KPS reactor vessel (ADAMS Accession No. ML13135A209).

As required by 10 CFR 50.82(a)(8)(i)(A), decommissioning trust funds may be used by the licensee if the withdrawals are for legitimate decommissioning activity expenses, consistent with the definition of decommissioning in 10 CFR 50.2. The definition of “decommissioning” in 10 CFR 50.2 does not include activities associated with irradiated fuel management. Similarly, the requirements of 10 CFR 50.75(h)(1)(iv) restrict the use of decommissioning trust fund withdrawals (other than for ordinary and incidental expenses) to decommissioning expenses until final decommissioning is completed. Therefore, exemptions from 10 CFR 50.82(a)(8)(i)(A) and 10 CFR 50.75(h)(1)(iv) are needed to allow DEK to use funds from the Trust for irradiated fuel management.

The licensee states that the Trust contains funds for decommissioning comingled with funds needed for irradiated fuel management not associated with radiological decontamination. The adequacy of the Trust to cover the costs of activities associated with irradiated fuel management and radiological decontamination through license termination is supported by the site specific decommissioning cost estimate in the PSDAR and the KPS updated Irradiated Fuel Management Plan. The licensee needs access to the funds in excess of those needed for radiological decontamination to support irradiated fuel management not associated with radiological decontamination.

The requirements of 10 CFR 50.75(h)(1)(iv) further provide that, except for decommissioning withdrawals being made under 10 CFR 50.82(a)(8) or for payment of ordinary and incidental expenses, no disbursement may be made from the Trust without written notice to the NRC at least 30 working days in advance. Therefore an exemption from 10 CFR 50.75(h)(1)(iv) is needed to allow DEK to use funds from the Trust for irradiated fuel management without prior NRC notification.

In summary, by letter dated April 4, 2013, as supplemented by letter dated November 6, 2013, DEK requested exemptions to allow Trust withdrawals, without prior written notification to the NRC, for irradiated fuel management consistent with both the KPS updated Irradiated Fuel Management Plan and the PSDAR.

Environmental Impacts of the Proposed Action

The proposed action involves exemptions from requirements that are of a financial or administrative nature which do not have an impact on the environment. The NRC has completed its evaluation of the proposed action and concludes that there is reasonable assurance that adequate funds are available in the Trust to complete all activities associated with license termination and irradiated fuel management. There is no decrease in the safety associated with the Trust being used to fund activities associated with irradiated fuel management. The exemptions would permit the use of Trust funds to effectuate DEK's plan to manage irradiated fuel in accordance with the updated Irradiated Fuel Management Plan and PSDAR. Since the exemption would allow DEK to use funds from the Trust that are in excess of those required for radiological decontamination of the site and the funds dedicated for radiological decontamination are not affected by the proposed exemption, there is reasonable assurance that there will be no environmental impact due to lack of adequate funding for decommissioning.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have any foreseeable impacts to land, air, or water resources, including impacts to biota. In addition, there are also no known socioeconomic or environmental justice impacts associated with such proposed action. Therefore, there are no significant non-radiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement for the KPS, dated December 1972, and the “Generic Environmental Impact Statement for License Renewal of Nuclear Plants Regarding Kewaunee Power Station, Final Report,” NUREG-1437, Supplement 40, dated August 2010 (ADAMS Accession No. ML102150106).

Agencies or Persons Consulted

The staff did not enter into consultation with any other Federal Agency or with the State of Wisconsin regarding the environmental impact of the proposed action. On April 10, 2014, the Wisconsin state representative was notified.

III. Finding of No Significant Impact

The licensee has proposed exemptions from 10 CFR 50.82(a)(8)(i)(A) and 10 CFR 50.75(h)(1)(iv) which would allow DEK to use funds from the Trust for irradiated fuel management activities in accordance with the updated Irradiated Fuel Management Plan and PSDAR, without prior written notification to the NRC.

The NRC decided not to prepare an Environmental Impact Statement for the proposed action. On the basis of the environmental assessment included in Section II above and incorporated by reference in this finding, the NRC concludes that the proposed action will not have significant effects on the quality of the human environment. Accordingly, the NRC has determined that a finding of no significant impact is appropriate.

Other than the licensee's letters, dated April 4, 2013, as supplemented by letter dated November 6, 2013, there are no other environmental documents associated with this review. These documents are available for public inspection as indicated above.

Dated at Rockville, Maryland, this 25th day of April 2014.
For the Nuclear Regulatory Commission.
Douglas A. Broaddus,
Chief, Plant Licensing IV-2 and Decommissioning Transition Branch, Division of Operating Reactor Licensing, Office of Nuclear Reactor Regulation.

[FR Doc. 2014-10097 Filed 5-1-14; 8:45 am]

BILLING CODE 7590-01-P